ENVIRONMENTAL PROTECTION AGENCY

[FRL-7395-1]

Clean Water Act Section 303(d): Availability of 37 Total Maximum Daily Loads (TMDLs)

AGENCY: Environmental Protection Agency (EPA).

ACTION: Notice of availability.

SUMMARY: This notice announces the availability for comment of the administrative record file for 37 TMDLs and the calculations for these TMDLs prepared by EPA Region 6 for waters listed in the state of Arkansas, under section 303(d) of the Clean Water Act (CWA). These TMDLs were completed in response to the lawsuit styled Sierra Club, et al. v. Browner et al., No. LR-C-99-114.

DATES: Comments must be submitted in writing to EPA on or before November 18, 2002.

ADDRESSES: Comments on the 37 TMDLs should be sent to Ellen Caldwell, Environmental Protection Specialist, Water Quality Protection Division, U.S. Environmental Protection Agency Region 6, 1445 Ross Ave., Dallas, TX 75202-2733. For further information, contact Ellen Caldwell at (214) 665-7513. The administrative record file for these TMDLs are available for public inspection at this address as well. Documents from the administrative record file may be viewed at www.epa.gov/region6/water/artmdl.htm, or obtained by calling or writing Ms. Caldwell at the above address. Please contact Ms. Caldwell to schedule an inspection.

FOR FURTHER INFORMATION CONTACT: Ellen Caldwell at (214) 665-7513.

SUPPLEMENTARY INFORMATION: In 1999, five Arkansas environmental groups, the Sierra Club, Federation of Fly Fishers, Crooked Creek Coalition, Arkansas Fly Fishers, and Save our Streams (plaintiffs), filed a lawsuit in Federal Court against the United States Environmental Protection Agency (EPA), styled Sierra Club, et al. v. Browner et al., No. LR-C-99-114. Among other claims, plaintiffs alleged that EPA failed to establish Arkansas TMDLs in a timely manner. EPA proposes these TMDLs pursuant to a consent decree entered in this lawsuit.

EPA Seeks Comments on 37 TMDLs

By this notice EPA is seeking comment on the following 37 TMDLs for waters located within the state of Arkansas:

Segment-reach | Waterbody name | Pollutant
11140203-20-11.9 | Dorcheat Bayou | Mercury.
11140203-22-8.4 | Dorcheat Bayou | Mercury.
11140203-24-7 | Dorcheat Bayou | Mercury.
11140203-26-23.3 | Dorcheat Bayou | Mercury.
11110206-02-8.7 | Fourche LaFave River | Mercury.
11010014-36 | South Fork Little Red River | Mercury.
11140203 | Columbia Lake | Mercury.
11110206 | Cove Creek Lake | Mercury.
11110206 | Dry Fork Lake | Mercury.
11110206 | Nimrod Lake | Mercury.
11010014 | Johnson Hole | Mercury.
11110201 | Shepherd Springs Lake | Mercury.
11110207 | Lake Sylvia | Mercury.
11110207 | Spring Lake | Mercury.
08040201-02-22.5 | Ouachita River | Mercury.
08040201-04-2.5 | Ouachita River | Mercury.
08040202 | Oxbow River—Oxbows below Camden | Mercury.
08040202 | Felsenthal Wildlife Refuge | Mercury.
08040202-02-4 | Ouachita River | Mercury.
08040202-03-8.4 | Ouachita River | Mercury.
08040202-04-28.9 | Ouachita River | Mercury.
08040203 | Lake Winona | Mercury.
08040203-01-0.2 | Saline River | Mercury.
08040204-01-2.8 | Saline River | Mercury.
08040204-02-53 | Saline River | Mercury.
08040204-04-16.4 | Saline River | Mercury.
08040204-06-17.5 | Saline River | Mercury.
08040201-01-12 | Moro Creek | Mercury.
08040201-03-20 | Champagnolle Creek | Mercury.
08040202-03-8.4 | Little Champagnolle | Mercury.
08040205-02-17.9 | Bayou Bartholomew | Mercury.
08040205-12-82.7 | Bayou Bartholomew | Mercury.
08040205-07-16.8 | Cutoff Creek | Mercury.
08040201-606-8.5 | ELCC Tributary | Chloride
08040201-606-8.5 | ELCC Tributary | Sulfate
08040201-606-8.5 | ELCC Tributary | TDS
08040201-606-8.5 | ELCC Tributary | Ammonia

EPA requests that the public provide to EPA any water quality related data and information that may be relevant to the calculations for these 37 TMDLs. EPA will review all data and information submitted during the public comment period and revise the TMDLs and determinations where appropriate. EPA will then forward the TMDLs to the Arkansas Department of Environmental Quality (ADEQ). The ADEQ will incorporate the TMDLs into its current water quality management plan. The EPA also will revise the Arkansas 303(d) list as appropriate.

Dated: October 8, 2002.
Oscar Ramirez,
Acting Director, Water Quality Protection Division, Region 6.

[FR Doc. 02-26573 Filed 10-17-02; 8:45 am]

BILLING CODE 6560-50-P